DEPARTMENT OF LABOR

Employment and Training Administration

[TA-W-38,932]

Johnson & Johnson Medical, Inc., El Paso, TX; Notice of Termination of Investigation

Pursuant to section 221 of the Trade Act of 1974, an investigation was initiated on March 26, 2001, in response to a worker petition which was filed on behalf of workers at Johnson & Johnson Medical, Inc., El Paso, Texas.

The petitioning workers work at a production facility outside of the United States and consequently have no standing to file a petition. Consequently, further investigation in this case would serve no purpose; and the investigation has been terminated.

A petition for NAFTA Transitional Adjustment Assistance has been filed on behalf of workers at the subject firm (NAFTA 4668). A determination on that petition will be made concurrently with this determination.

Signed at Washington, DC this 8th day of May, 2001.
Linda G. Poole,
Certifying Officer, Division of Trade Adjustment Assistance.

[FR Doc. 01-12996 Filed 5-27-01; 8:45 am]

BILLING CODE 4510-30-M